ENVIRONMENTAL PROTECTION AGENCY

[OPP-2002-0161; FRL-7189-4]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by February 24, 2003, or unless indicated otherwise, orders will be issued canceling all of these registrations. Comments on registrations for EPA company numbers 000655, 001381, 005073, 007501, 045385 and 049585 must be received on or before September 27, 2002.

FOR FURTHER INFORMATION CONTACT: By mail: James A. Hollins, Information Resources Services Division (7502C), Office of Pesticide Programs, Environmental Protection Agency, 1200 Pennsylvania Ave., NW., Washington, DC 20460; telephone number: (703) 305-5761; e-mail address: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional Information, Including Copies of this Document and Other Related Documents?

1. Electronically. You may obtain electronic copies of this document and certain other related documents that might be available electronically, from the EPA Internet Home Page at http://www.epa.gov. To access this document, on the Home Page select “Laws and Regulations,” “Regulations and Proposed Rules,” and then look up the entry for this document under the “Federal Register—Environmental Documents.” You can also go directly to the Federal Register listing at http://www.epa.gov/fedrgstr/.

2. In person. The Agency has established an official record for this action under docket ID number OPP-2002-0161. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of this official record, which includes printed, paper versions of any electronic comments submitted during as applicable comment period, is available for inspection in the Public Information and Records Integrity Branch (PIRIB), Room 119, Crystal Mall #2, 1921 Jefferson Davis Hwy., Arlington, VA, from 8:30 A.M. to 4 P.M., Monday through Friday, excluding legal holidays. The PIRIB telephone number is (703) 305-5805.

C. How and to Whom Do I Submit Withdrawal Requests?

You may submit withdrawal requests through the mail, in person, or electronically. To ensure proper receipt by EPA, it is imperative that you identify docket ID number OPP-2002-0161 in the subject line on the first page of your response.

By mail. Submit your withdrawal request to: James A. Hollins, Office of Pesticide Programs (7502C), Environmental Protection Agency, 1200 Pennsylvania Ave., NW., Washington, DC 20460.

II. What Action is the Agency Taking?

This notice announces receipt by the Agency of applications from registrants to cancel [insertnumber] pesticide products registered under section 3 or 24(c) of FIFRA. These registrations are listed in sequence by registration number (or company number and 24(c) number) in Table 1 of this unit:

Table 1—Registrations With Pending Requests for Cancellation
Registration no. | Product Name | Chemical Name
000228-00194 | Riverdale 2,4-DP Technical Acid | 2-(2,4-Dichlorophenoxy)propionic acid
000228-00291 | Riverdale MCPP Technical Ioe | Isooctyl 2-(2-methyl-4-chlorophenoxy)propionate
000264-00651 | Photon Fungicide | Triphenyltin hydroxide
000264 FL-87-0001 | Mocap EC Nematicide-Insecticide Gas cartidge (as a device for burrowing animal control | O-Ethyl S,S-dipropyl phosphorodithioate
000432-01071 | Automatic Sequential Food Plant Pressurized Spray | (Butylcarbityl)(6-propylpiperonyl) ether 80% and related compounds 20% Pyrethrins
000432-01078 | Alleviate 1-0.2 Food Plant Spray | 2-Methyl-4-oxo-3-(2-propenyl)-2-cyclopenten-1-yl d-trans-2,2-dimethyl- (Butylcarbityl)(6-propylpiperonyl) ether 80% and related compounds 20%
000432-01080 | Alleviate Fogging Spray | 2-Methyl-4-oxo-3-(2-propenyl)-2-cyclopenten-1-yl d-trans-2,2-dimethyl- (Butylcarbityl)(6-propylpiperonyl) ether 80% and related compounds 20%
000432-01083 | Alleviate 25-12.5 | 2-Methyl-4-oxo-3-(2-propenyl)-2-cyclopenten-1-yl d-trans-2,2-dimethyl- (Butylcarbityl)(6-propylpiperonyl) ether 80% and related compounds 20%
000432-01088 | Alleviate Space Spray | 2-Methyl-4-oxo-3-(2-propenyl)-2-cyclopenten-1-yl d-trans-2,2-dimethyl- (Butylcarbityl)(6-propylpiperonyl) ether 80% and related compounds 20%
000432-01098 | Alleviate M.A.G.C. 5-2.5 | 2-Methyl-4-oxo-3-(2-propenyl)-2-cyclopenten-1-yl d-trans-2,2-dimethyl- (Butylcarbityl)(6-propylpiperonyl) ether 80% and related compounds 20%
000432-01102 | Alleviate 25-5 17 A G C | 2-Methyl-4-oxo-3-(2-propenyl)-2-cyclopenten-1-yl d-trans-2,2-dimethyl- (Butylcarbityl)(6-propylpiperonyl) ether 80% and related compounds 20%
000655-00393 | Prentox Lindane Technical Crystals | Lindane (Gamma isomer of benzene hexachloride) 99% pure gamma isomer
000655-00615 | Prentox Mosquito Yard Spray Concentrate | Methoxychlor (2,2-bis(p-methoxyphenyl)-1,1,1-trichloroethane) O,O-Dimethyl phosphorodithioate of diethyl mercaptosuccinate
000769-00599 | R & M Dog and Cat Repellent Granules | Methyl nonyl ketone
000769-00879 | Pratt Repel for Cats and Dogs | Methyl nonyl ketone
000769-20203 | SMCP Bor/act Roach Control Agent | Boric acid
001381-00168 | Granol N-M Insecticide and Fungicide Seed Treatment | Lindane (Gamma isomer of benzene hexachloride) 99% pure gamma isomer Manganese ethylenebis(dithiocarbamate)
002935-00492 | Granol Flowable Insecticide and Fungicide Seed Treatmen | Lindane (Gamma isomer of benzene hexachloride) 99% pure gamma isomer Manganese ethylenebis(dithiocarbamate)
002935-00497 | Granol Plus Flowable | Lindane (Gamma isomer of benzene hexachloride) 99% pure gamma isomer Manganese ethylenebis(dithiocarbamate) 2-(4'-Thiazolyl)benzimidazole
002935-00498 | Granol Plus Insecticide and Fungicide Seed Treatment Fo | Lindane (Gamma isomer of benzene hexachloride) 99% pure gamma isomer Manganese ethylenebis(dithiocarbamate) 2-(4'-Thiazolyl)benzimidazole
005073-00018 | Tox-O-Wik Insecticide Concentrate | Dipropyl isocinchomeronate N-Octyl bicycloheptene dicarboximide (Butylcarbityl)(6-propylpiperonyl) ether 80% and related compounds 20% Pyrethrins
005887-00078 | Black Leaf Dog and Cat Repellent Granular | Methyl nonyl ketone
007173-00080 | Rozol Ready-To-Use Rat and Mouse Bait | 2-((p-Chlorophenyl)phenylacetyl)-1,3-indandione
007173-00128 | Rozol Rat and Mouse Killer | 2-((p-Chlorophenyl)phenylacetyl)-1,3-indandione
007173-00161 | Rozol Rat and Mouse Killer Pellets | 2-((p-Chlorophenyl)phenylacetyl)-1,3-indandione
007173-00171 | Maki Rat and Mouse Meal Bait | 3-(3-(4'-Bromo-(1,1'-biphenyl)-4-yl)-3-hydroxy-1-phenylpropyl)-4-hydroxy-2H-1-
007173-00186 | Maki Rat and Mouse Meal Bait | 3-(3-(4'-Bromo-(1,1'-biphenyl)-4-yl)-3-hydroxy-1-phenylpropyl)-4-hydroxy-2H-1-
007173-00190 | Rozol Paraffin Blocks | 2-((p-Chlorophenyl)phenylacetyl)-1,3-indandione
007501 ID-93-0004 | Vitavax RS Flowable | Lindane (Gamma isomer of benzene hexachloride) 99% pure gamma isomer Tetramethyl thiuramdisulfide 5,6-Dihydro-2-methyl-1,4-oxathiin-3-carboxanalide
007501 MT-90-0006 | Gustafson Vitavak-Thiram-Lindane Flowable Fungicide-Ins | Lindane (Gamma isomer of benzene hexachloride) 99% pure gamma isomer Tetramethyl thiuramdisulfide 5,6-Dihydro-2-methyl-1,4-oxathiin-3-carboxanalide
007501 ND-99-0003 | MZ - Curzate | Gas cartidge (as a device for burrowing animal control) Zinc ion and manganese ethylenebisdithiocarbamate, coordination product 2-Cyano-N-((ethylamino)carbonyl)-2-(methoxyimino)acetamide
007501 ND-99-0008 | Tops MZ Potato Seed-Piece Treatment Fungicide | Zinc ion and manganese ethylenebisdithiocarbamate, coordination product Dimethyl ((1,2-phenylene)bis(iminocarbonothioyl))bis(carbamate)
010182 LA-99-0008 | Bravo 720 | Tetrachloroisophthalonitrile
010807-00139 | Trio | Hydrogen chloride (=hydrochloric acid, anhydrous) Alkyl* dimethyl benzyl ammonium chloride *(50%C14, 40%C12, 10%C16) Didecyl dimethyl ammonium chloride Octyl decyl dimethyl ammonium chloride Dioctyl dimethyl ammonium chloride
034704-00287 | Dot-Son Brand Stand -Aid | O,O-Diethyl S-(2-(ethylthio)ethyl) phosphorodithioate Pentachloronitrobenzene
034704-00475 | Commercial Fertilizer with 0.625 Phosmetic D | O,O-Diethyl S-(2-(ethylthio)ethyl) phosphorodithioate
034704-00586 | Tobacco Plant Bed Systemic Granules | O,O-Diethyl S-(2-(ethylthio)ethyl) phosphorodithioate
034704-00785 | Systemic Rose and Flower Care with 1% Disyston | O,O-Diethyl S-(2-(ethylthio)ethyl) phosphorodithioate
045385-00087 | Cenol Dairy Cattle Spray | Dipropyl isocinchomeronate N-Octyl bicycloheptene dicarboximide (Butylcarbityl)(6-propylpiperonyl) ether 80% and related compounds 20% Pyrethrins
049585-20201 | Super K-Gro Roach Killer Powder | Boric acid
051036 TX-89-0011 | Lanco Azinphos-Methyl 2 EC | O,O-Dimethyl S-((4-oxo-1,2,3-benzotriazin-3(4H)-yl)methyl) phosphorodithioate
062719 OK-91-0009 | Remedy | Butoxyethyl triclopyr
063950-00003 | Blue Circle (TM) Liquid | Burkholderia (pseudomonas) cepacia type Wisconsin isolate/strain J82
063950-00006 | Blue Circle Liquid Biological Fungicide | Burkholderia (pseudomonas) cepacia type Wisconsin isolate/strain J82
063950-00007 | Blue Circle Seed Treatment Biological Fungicide | Burkholderia (pseudomonas) cepacia type Wisconsin isolate/strain J82
063950-00008 | Blue Circle Seed Treatment Biological Nematicide | Burkholderia (Pseudomonas) cepacia type Wisconsin isolate/strain M54
063950-00009 | Blue Circle Liquid Biological Nematicide | Burkholderia (Pseudomonas) cepacia type Wisconsin isolate/strain M54

Unless a request is withdrawn by the registrant within 180 days of publication of this notice, orders will be issued canceling all of these registrations. Users of these pesticides or anyone else desiring the retention of a registration should contact the applicable registrant directly during this 180-day withdrawal period or the 30-day comment period.

Table 2 of this unit includes the names and addresses of record for all registrants of the products in Table 1 of this unit, in sequence by EPA company number:

Table 2—Registrants Requesting Voluntary Cancellation
EPA Company no. | Company Name and Address
000228 | Riverdale Chemical Co, 1333 Burr Ridge Parkway, Suite 125A, Burr Ridge, IL 60527.
000264 | Aventis Cropscience USA LP, 2 T.W. Alexander Drive, Box 12014, Research Triangle Park, NC 27709.
000432 | Aventis Environmental Science USA LP, 95 Chestnut Ridge Rd., Montvale, NJ 07645.
000432 | Agrevo Environmental Health, 95 Chestnut Ridge Rd. Montvale, NJ 07645
000655 | Prentiss Inc., C.B. 2000, Floral Park, NY 11001
000769 | Value Gardens Supply, LLC, Box 585, St. Joseph, MO 64502
001381 | Agriliance, LLC, Box 64089, St. Paul, MN 55164
002935 | Wilbur Ellis Co., 191 W Shaw Ave, #107, Fresno, CA 93704
005073 | Tatge Chem Co., Box 190, Herington, KS 67449
005887 | Value Gardens Supply, LLC, Box 585, St. Joseph, MO 64502
007173 | Liphatech, Inc., 3600 W. Elm Street, Milwaukee, WI 53209
007501 | Gustafson LLC, Box 660065, Dallas, TX 75266
007969 | BASF Corp., Agricultural Products, Box 13528, Research Triangle Park, NC 27709
010182 | Zeneca Ag Products, Inc., Box 15458, Wilmington, DE 19850
010182 | Zeneca Ag Products, Inc., Box 18300, Greensboro, NC 27419
010807 | AMREP, Inc., 990 Industrial Dr, Marietta, GA 30062
034704 | Jane Cogswell, Agent For: Platte Chemical Co Inc., Box 667, Greeley, CO 80632
045385 | CTX-Cenol, Inc., Box 472, Twinsburg, OH 44087
049585 | Alljack, Division of United Industries Corp., Box 142642, St Louis, MO 63114
051036 | Micro-Flo Co. LLC, Box 772099, Memphis, TN 38117
062719 | Dow Agrosciences LLC, 9330 Zionsville Rd 308/2e225, Indianapolis, IN 46268
063950 | Stine Microbial Products, Attn: Jerald L. Reichling, 2225 Laredo Trail, Adel, IA 50003

III. Loss of Active Ingredients

Unless the request for cancellation is withdrawn, the pesticide active ingredients listed in table 3 below will no longer appear in any registered products. Those who are concerned about the potential loss of these active ingredients for pesticidal use are encouraged to work directly with the registrant to explore the possibility of the registrant withdrawing the request for cancellation. The active ingredients are listed in the following Table 3, with the EPA company number and chemical name.

Table 3.—Active Ingredients Disappearing As A Result of Registrant's Request to Cancel
EPA Company Number | Chemical Name
063950 | Burkholderia (pseudomonas) cepacia type Wisconsin isolate/strain J82
063950 | Burkholderia (pseudomonas) cepacia type Wisconsin isolate/strain M54

IV. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

V. Procedures for Withdrawal of Request

Registrants who choose to withdraw a request for cancellation must submit such withdrawal in writing to the person listed under FOR FURTHER INFORMATION CONTACT, postmarked before February 24, 2003. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

VI. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation order. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical.

List of Subjects

Environmental protection, Pesticides and pests.

Dated: August 15, 2002.
Arnold E. Layne,
Acting Director, Information Resources Services Division, Office of Pesticide Programs.

[FR Doc. 02-21754 Filed 8-27-02; 8:45 am]

BILLING CODE 6560-50-S